DEPARTMENT OF COMMERCE

International Trade Administration

[A-570-092]

Mattresses From the People's Republic of China: Antidumping Duty Order

AGENCY: Enforcement and Compliance, International Trade Administration, Department of Commerce.

SUMMARY: Based on the affirmative final determination by the Department of Commerce (Commerce) and the International Trade Commission (ITC), Commerce is issuing the antidumping duty (AD) order on mattresses from the People's Republic of China (China).

DATES: Applicable December 16, 2019.

FOR FURTHER INFORMATION CONTACT: Stephen Bailey or Jonathan Hill, AD/CVD Operations, Office IV, Enforcement and Compliance, International Trade Administration, U.S. Department of Commerce, 1401 Constitution Avenue NW, Washington, DC 20230; telephone: (202) 482-0193 and (202) 482-3518, respectively.

SUPPLEMENTARY INFORMATION:

Background

In accordance with sections 735(d) and 777(i) of the Tariff Act of 1930, as amended (the Act) and 19 CFR 351.210(c), on October 23, 2019, Commerce published its affirmative final determination of sales at less-than-fair-value (LTFV) of mattresses from China.¹ On December 9, 2019, the ITC notified Commerce of its final affirmative determination that an industry in the United States is materially injured by reason of LTFV imports of mattresses from China, within the meaning of section 735(b)(1)(A)(i) of the Act.²

¹ See Mattresses from the People's Republic of China: Final Affirmative Determination of Sales at Less Than Fair Value, and Final Affirmative Determination of Critical Circumstances, in Part, 84 FR 56761 (October 23, 2019) (Final Determination).

² See ITC Notification Letter regarding ITC Investigation No. 731-TA-1424 (December 9, 2019) (ITC Notification).

Scope of the Order

The product covered by this order is mattresses from China. For a complete description of the scope of the orders, see the Appendix to this notice.

Order

In accordance with section 735(d) of the Act, the ITC notified Commerce of its final determination that an industry in the United States is materially injured within the meaning of section 735(b)(1)(A)(i) of the Act by reason of imports of mattresses from China that are sold in the United States at LTFV.³ The ITC also made a determination that critical circumstances do not exist with respect to imports of mattresses from China subject to Commerce's critical circumstances finding.⁴ Therefore, in accordance with section 735(c)(2) of the Act, we are issuing this order. Because the ITC determined that imports of mattresses from China are materially injuring a U.S. industry, unliquidated entries of such merchandise from China entered, or withdrawn from warehouse, for consumption are subject to the assessment of antidumping duties.

³ Id.

⁴ See Mattresses From China, 84 FR 67958 (December 12, 2019) (ITC Mattress Final) and Mattresses From China Investigation No. 731-TA-1424 (FINAL), Publication 5000, December 2019.

As a result of the ITC's final determination, in accordance with section 736(a)(1) of the Act, Commerce will direct U.S. Customs and Border Protection (CBP) to assess, upon further instruction by Commerce, antidumping duties equal to the amount by which the normal value of the merchandise exceeds the export price, or constructed export price, of the subject merchandise for all relevant entries of mattresses from China. Antidumping duties will be assessed on unliquidated entries of mattresses from China entered, or withdrawn from warehouse, for consumption on or after June 4, 2019, the date of publication of the Preliminary Determination, but antidumping duties will not be assessed on entries of subject merchandise after the expiration of the provisional measures period and before publication in the Federal Register of the ITC's final injury determination, as further described below.⁵

⁵ See Mattresses From the People's Republic of China: Preliminary Determination of Sales at Less-Than-Fair-Value, Postponement of Final Determination and Affirmative Preliminary Determination of Critical Circumstances, 84 FR 25732 (June 4, 2019) (Preliminary Determination).

Continuation of Suspension of Liquidation

Except as noted in the “Provisional Measures” section of this notice below, in accordance with section 735(c)(1)(B) of the Act, Commerce intends to instruct CBP to continue to suspend liquidation on all relevant entries of mattresses from China. These instructions suspending liquidation will remain in effect until further notice.

Commerce also intends to instruct CBP to require cash deposits equal to the estimated weighted-average dumping margins indicated in the table below. Given that the provisional measures period has expired, as explained below, effective on the date of publication in the Federal Register of the notice of the ITC's final affirmative injury determination, CBP will require, at the same time as importers would normally deposit estimated duties on subject merchandise, a cash deposit equal to the estimated weighted-average dumping margins listed in the table below.⁶ The China-wide entity rate applies to all exporter-producer combinations not specifically listed.

⁶ See section 736(a)(3) of the Act.

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of mattresses from China, Commerce extended the four-month period to six months in this proceeding.⁷ In the underlying investigation, Commerce published the Preliminary Determination on June 4, 2019. Hence, the extended provisional measures period, beginning on the date of publication of the Preliminary Determination, ended on November 30, 2019.

⁷ Preliminary Determination, 84 FR at 25735.

Therefore, in accordance with section 733(d) of the Act and our practice, Commerce intends to instruct CBP to terminate the suspension of liquidation and to liquidate, without regard to antidumping duties, unliquidated entries of mattresses from China, entered, or withdrawn from warehouse, for consumption after November 30, 2019, the final day on which the provisional measures were in effect, through the day preceding the date of publication of the ITC's final affirmative injury determination in the Federal Register.⁸ Suspension of liquidation and the collection of cash deposits will resume on the date of publication of the ITC's final determination in the Federal Register.

⁸ See ITC Mattress Final.

⁹ See Memorandum, “Antidumping Duty Investigation of Mattresses from the People's Republic of China: Final Determination of Affiliation/Single Entity Treatment of Zinus Xiamen Inc., Zinus Zhangzhou Inc., and Zinus Inc.,” dated October 17, 2019.

Critical Circumstances

With regard to the ITC's negative critical circumstances determination on imports of mattresses from China, Commerce intends to instruct CBP to lift suspension and to refund any cash deposits made to secure the payment of estimated antidumping duties with respect to entries of subject merchandise entered, or withdrawn from warehouse, for consumption on or after March 6, 2019 (i.e., 90 days prior to the date of publication of the Preliminary Determination), but before June 4, 2019, (i.e., the date of publication of the Preliminary Determination).

Estimated Weighted-Average Dumping Margins

The estimated weighted-average dumping margin percentages are as follows:

Exporter | Producer | Estimated weighted- average dumping margin (percent)
Healthcare Co., Ltd | Healthcare Co., Ltd | 57.03
Zinus Inc./Zinus Xiamen Inc./Zinus Zhangzhou Inc⁹ | Zinus Inc./Zinus Xiamen Inc./Zinus Zhangzhou Inc | 192.04
Dockter China Limited | Dongguan Beijianing Household Products Co., Ltd (a.k.a. Better Zs, Ltd.) | 162.76
Dockter China Limited | Healthcare Co., Ltd | 162.76
Dockter China Limited | Huizhou Lemeijia Household Products Co., Ltd. (a.k.a. Better Zs, Ltd.) | 162.76
Foshan Chiland Furniture Co., Ltd | Foshan Chiland Furniture Co., Ltd | 162.76
Foshan City Jinxingma Furniture Manufacture Co., Ltd | Foshan City Jinxingma Furniture Manufacture Co., Ltd | 162.76
Foshan City Kewei Furniture Co., Ltd | Foshan City Kewei Furniture Co., Ltd | 162.76
Foshan City Shunde Haozuan Furniture Co., Ltd | Foshan City Shunde Haozuan Furniture Co., Ltd | 162.76
Foshan EON Technology Industry Co., Ltd | Foshan EON Technology Industry Co., Ltd | 162.76
Foshan Mengruo Household Furniture Co., Ltd | Foshan Mengruo Household Furniture Co., Ltd | 162.76
Foshan Qisheng Sponge Co., Ltd | Foshan Qisheng Sponge Co., Ltd | 162.76
Foshan Ruixin Non Woven Co., Ltd | Foshan Ruixin Non Woven Co., Ltd | 162.76
Foshan Suilong Furniture Co. Ltd | Foshan Suilong Furniture Co. Ltd | 162.76
Foshan Ziranbao Furniture Co., Ltd | Foshan Ziranbao Furniture Co., Ltd | 162.76
Guangdong Diglant Furniture Industrial Co., Ltd | Guangdong Diglant Furniture Industrial Co., Ltd | 162.76
Healthcare Sleep Products Limited | Healthcare Co., Ltd | 162.76
Hong Kong Gesin Technology Limited | Inno Sports Co., Ltd | 162.76
lnno Sports Co., Ltd | lnno Sports Co., Ltd | 162.76
Jiangsu Wellcare Household Articles Co., Ltd | Jiangsu Wellcare Household Articles Co., Ltd | 162.76
Jiashan Nova Co., Ltd | Jiashan Nova Co., Ltd | 162.76
Jiaxing Taien Springs Co., Ltd | Jiaxing Taien Springs Co., Ltd | 162.76
Jiaxing Visco Foam Co., Ltd | Jiaxing Visco Foam Co., Ltd | 162.76
Jinlongheng Furniture Co., Ltd | Jinlongheng Furniture Co., Ltd | 162.76
Luen Tai Group (China) Limited | Shenzhen L&T Industrial Co., Ltd | 162.76
Luen Tai Global Limited | Shenzhen L&T Industrial Co., Ltd | 162.76
Man Wah Furniture Manufacturing (Hui Zhou) Co., Ltd., Man Wah (MACAO Commercial Offshore), Ltd. and Man Wah (USA), Inc | Man Wah Household Industry (Huizhou) Co., Ltd | 162.76
Ningbo Megafeat Bedding Co., Ltd | Ningbo Megafeat Bedding Co., Ltd | 162.76
Ningbo Shuibishen Home Textile Technology Co., Ltd | Ningbo Shuibishen Home Textile Technology Co., Ltd | 162.76
Nisco Co., Ltd | Healthcare Co., Ltd | 162.76
Quanzhou Hengang Imp. & Exp. Co., Ltd | Quanzhou Hengang Industries Co., Ltd | 162.76
Shanghai Glory Home Furnishings Co., Ltd | Shanghai Glory Home Furnishings Co., Ltd | 162.76
Sinomax Macao Commercial Offshore Limited | Dongguan Sinohome Limited | 162.76
Sinomax Macao Commercial Offshore Limited | Sinomax (Zhejiang) Polyurethane Technology Ltd | 162.76
Wings Developing Co., Limited | Quanzhou Hengang Industries Co., Ltd | 162.76
Xianghe Kaneman Furniture Co., Ltd | Xianghe Kaneman Furniture Co., Ltd | 162.76
Xilinmen Furniture Co., Ltd | Xilinmen Furniture Co., Ltd | 162.76
Zhejiang Glory Home Furnishings Co., Ltd | Zhejiang Glory Home Furnishings Co., Ltd | 162.76
China-wide entity |  | 1,731.75

Notifications to Interested Parties

This notice constitutes the antidumping duty order with respect to mattresses from China pursuant to sections 736(a) of the Act. Interested parties can find a list of orders currently in effect at http://enforcement.trade.gov/stats/iastats1.html.

This order is published in accordance with section 736(a) of the Act and 19 CFR 351.211(b).

Dated: December 12, 2019.
Christian Marsh,
Deputy Assistant Secretary for Enforcement and Compliance.

Appendix

Scope of the Order

The products covered by this order are all types of youth and adult mattresses. The term “mattress” denotes an assembly of materials that at a minimum includes a “core,” which provides the main support system of the mattress, and may consist of innersprings, foam, other resilient filling, or a combination of these materials. Mattresses may also contain (1) “upholstery,” the material between the core and the top panel of the ticking on a single-sided mattress, or between the core and the top and bottom panel of the ticking on a double-sided mattress; and/or (2) “ticking,” the outermost layer of fabric or other material (e.g., vinyl) that encloses the core and any upholstery, also known as a cover.

The scope of this order is restricted to only “adult mattresses” and “youth mattresses.” “Adult mattresses” have a width exceeding 35 inches, a length exceeding 72 inches, and a depth exceeding 3 inches on a nominal basis. Such mattresses are frequently described as “twin,” “extra-long twin,” “full,” “queen,” “king,” or “California king” mattresses. “Youth mattresses” have a width exceeding 27 inches, a length exceeding 51 inches, and a depth exceeding 1 inch (crib mattresses have a depth of 6 inches or less from edge to edge) on a nominal basis. Such mattresses are typically described as “crib,” “toddler,” or “youth” mattresses. All adult and youth mattresses are included regardless of actual size description.

The scope encompasses all types of “innerspring mattresses,” “non-innerspring mattresses,” and “hybrid mattresses.” “Innerspring mattresses” contain innersprings, a series of metal springs joined together in sizes that correspond to the dimensions of mattresses. Mattresses that contain innersprings are referred to as “innerspring mattresses” or “hybrid mattresses.” “Hybrid mattresses” contain two or more support systems as the core, such as layers of both memory foam and innerspring units.

“Non-innerspring mattresses” are those that do not contain any innerspring units. They are generally produced from foams (e.g., polyurethane, memory (viscoelastic), latex foam, gel-infused viscoelastic (gel foam), thermobonded polyester, polyethylene) or other resilient filling.

Mattresses covered by the scope of this order may be imported independently, as part of furniture or furniture mechanisms (e.g., convertible sofa bed mattresses, sofa bed mattresses imported with sofa bed mechanisms, corner group mattresses, day-bed mattresses, roll-away bed mattresses, high risers, trundle bed mattresses, crib mattresses), or as part of a set in combination with a “mattress foundation.” “Mattress foundations” are any base or support for a mattress. Mattress foundations are commonly referred to as “foundations,” “boxsprings,” “platforms,” and/or “bases.” Bases can be static, foldable, or adjustable. Only the mattress is covered by the scope if imported as part of furniture, with furniture mechanisms, or as part of a set in combination with a mattress foundation.

Excluded from the scope of this order are “futon” mattresses. A “futon” is a bi-fold frame made of wood, metal, or plastic material, or any combination thereof, that functions as both seating furniture (such as a couch, love seat, or sofa) and a bed. A “futon mattress” is a tufted mattress, where the top covering is secured to the bottom with thread that goes completely through the mattress from the top through to the bottom, and it does not contain innersprings or foam. A futon mattress is both the bed and seating surface for the futon.

Also excluded from the scope are airbeds (including inflatable mattresses) and waterbeds, which consist of air- or liquid-filled bladders as the core or main support system of the mattress.

Also excluded is certain multifunctional furniture that is convertible from seating to sleeping, regardless of filler material or components, where that filler material or components are integrated into the design and construction of, and inseparable from, the furniture framing. Such furniture may, and without limitation, be commonly referred to as “convertible sofas,” “sofa beds,” “sofa chaise sleepers,” “futons,” “ottoman sleepers” or a like description.

Further, also excluded from the scope of this order are any products covered by the existing antidumping duty order on uncovered innerspring units. See Uncovered Innerspring Units from the People's Republic of China: Notice of Antidumping Duty Order, 74 FR 7661 (February 19, 2009).

Additionally, also excluded from the scope of this order are “mattress toppers.” A “mattress topper” is a removable bedding accessory that supplements a mattress by providing an additional layer that is placed on top of a mattress. Excluded mattress toppers have a height of four inches or less.

The products subject to this order are currently properly classifiable under Harmonized Tariff Schedule for the United States (HTSUS) subheadings: 9404.21.0010, 9404.21.0013, 9404.29.1005, 9404.29.1013, 9404.29.9085, and 9404.29.9087. Products subject to this order may also enter under HTSUS subheadings: 9404.21.0095, 9404.29.1095, 9404.29.9095, 9401.40.0000, and 9401.90.5081. Although the HTSUS subheadings are provided for convenience and customs purposes, the written description of the merchandise subject to this investigation is dispositive.

[FR Doc. 2019-27166 Filed 12-13-19; 8:45 am]

BILLING CODE 3510-DS-P